DEPARTMENT OF JUSTICE

[OMB Number 1105-NEW]

Agency Information Collection Activities; Proposed Collection; Comments Requested: USMS Medical Forms

ACTION: 60-Day Notice.

The Department of Justice (DOJ), U.S. Marshals Service, will be submitting the following information collection request to the Office of Management and Budget (OMB) for review and approval in accordance with the Paperwork Reduction Act of 1995. The proposed information collection is published to obtain comments from the public and affected agencies. Comments are encouraged and will be accepted for “sixty days” until June 14, 2013. This process is conducted in accordance with 5 CFR 1320.10.

If you have comments especially on the estimated public burden or associated response time, suggestions, or need a copy of the proposed information collection instrument with instructions or additional information, please contact Nicole Feuerstein, U.S. Marshals Service, CS-3/10th Fl., 2604 Jefferson Davis Hwy, Alexandria, VA 22301.

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of this Information Collection

(1) Type of Information Collection: New collection.

(2) Title of the Form/Collection: USMS Medical Forms.

(3) Agency form number, if any, and the applicable component of the Department of Justice sponsoring the collection:

Form Numbers:

—USM-522 Physical Examination Report for USMS Operational Employees.

—USM-522A Physician Evaluation Report for USMS Operational Employees.

—USM-522E Medical Update.

—USM-522K Applicant Review of Immunizations.

—USM-522P Physician Evaluation Report for USMS Operational Employees Pregnancy Only.

—USM-600 Physical Requirements of USMS District Security Officers.

—CSO-012 Request to Reevaluate Court Security Officer's Medical Qualification.

—CSO-229 Certificate of Medical Examination for Court Security Officers Component for all above-listed forms: U.S. Marshals Service.

(4) Affected public who will be asked or required to respond, as well as a brief abstract:

—USM-522 Physical Examination Report for USMS Operational Employees

○ Affected public: Individuals or households (Applicants to USMS)

○ Brief abstract: It is the policy of the USMS to ensure a law enforcement work force that is medically able to safely perform the required job functions. Operational employees are required to meet medical standards and physical requirements and are classified as either qualified or unqualified based on review of periodic medical examination results. All applicants for law enforcement positions must have pre-employment physical examinations. The USMS provides and pays for applicant medical examinations at the district contract medical facility.

—USM-522A Physician Evaluation Report for USMS Operational Employees

○ Affected public: Private sector (Physicians)

○ Brief abstract: This form is completed by an USMS operational employee's treating physician to report any illness/injury (other than pregnancy) that requires restriction from full performance of duties for longer than 80 consecutive hours.

USM-522E USMS Medical Update

○ Affected public: Individuals or households (Applicants to USMS)

○ Brief abstract: USMS applicants must complete this form to update their medical status in order to remain active in the hiring process. Current USMS employees may use this form to update their medical status in the off-cycle years of the Periodic Medical Exam (PME) schedule.

—USM-522K Applicant Review of Immunizations

○ Affected public: Individuals or households (Applicants to USMS)

○ Brief abstract: USMS applicants must complete this record of immunizations if an Immunization Record Card cannot be provided with the medical examination package.

—USM-522P Physician Evaluation Report for USMS Operational Employees (Pregnancy Only)

○ Affected public: Private sector (Physicians)

○ Brief abstract: Form USM-522P must be completed by the OB/GYN physician of pregnant USMS operational employees to specify any restrictions from full performance of duties.

—USM-600 Physical Requirements of USMS District Security Officers

○ Affected public: Private sector (Physicians)

○ Brief abstract: It is the policy of the USMS to ensure a law enforcement work force that is medically able to safely perform the required job functions. All applicants for law enforcement positions must have pre-employment physical examinations. District Security Officers (DSO) are individual contractors, not employees of USMS; Form USM-522 does not apply to DSOs.

—CSO-012 Request to Reevaluate Court Security Officer's Medical Qualification

○ Affected public: Private sector (Physicians)

○ Brief abstract: This form is completed by the Court Security Officer (CSO)'s attending physician to determine whether a CSO is physically able to return to work after an injury, serious illness, or surgery. The physician returns the evaluation to the contracting company, and if the determination is that the CSO may return to work, the CSO-012 is then signed off on by the contracting company and forwarded to the USMS for final review by USMS' designated medical reviewing official. Court Security Officers are contractors, not employees of USMS; Form USM-522A does not apply to CSOs.

—CSO-229 Certificate of Medical Examination for Court Security Officers

○ Affected public: Private sector (Physicians), Individuals or households (Applicants to and current employees of the CSO contracting companies)

○ Brief abstract: It is the policy of the USMS to ensure a law enforcement work force that is medically able to safely perform the required job functions. All applicants for law enforcement positions must have pre-employment physical examinations. Court Security Officers (CSO) are contractors, not employees of USMS; Form USM-522 does not apply to CSOs.

(5) An estimate of the total number of respondents and the amount of time estimated for an average respondent to respond:

—USM-522 USMS Physical Examination Report for Operational Employees

It is estimated that 800 respondents will complete a 45 minute form.

—USM-522A Physician Evaluation Report for USMS Operational Employees

It is estimated that 100 respondents will complete a 20 minute form.

—USM-522E USMS Medical Update

It is estimated that 100 respondents will complete a 20 minute form.

—USM-522K Applicant Review of Immunizations

It is estimated that 350 respondents will completed a 10 minute form.

—USM-522P Physician Evaluation Report for USMS Operational Employees (Pregnancy Only)

It is estimated that 12 respondents will complete a 15 minute form.

—USM-600 Physical Requirements of USMS District Security Officers

It is estimated that 800 respondents will complete a 20 minute form.

—CSO-012 Request to Reevaluate Court Security Officer's Medical

Qualification

It is estimated that 300 respondents will complete a 30 minute form.

—CSO-229 Certificate of Medical Examination for Court Security Officers

It is estimated that 4300 respondents will complete a 30 minute form.

(6) An estimate of the total public burden (in hours) associated with the collection:

—USM-522 USMS Physical Examination Report for Operational Employees

There are an estimated 600 annual total burden hours associated with this collection.

—USM-522A Physician Evaluation Report for USMS Operational Employees

There are an estimated 33 annual total burden hours associated with this collection.

—USM-522E USMS Medical Update

There are an estimated 33 annual total burden hours associated with this collection.

—USM-522 K Applicant Review of Immunizations

There are an estimated 58 annual total burden hours associated with this collection.

—USM-522P Physician Evaluation Report for USMS Operational Employees (Pregnancy Only)

There are an estimated 3 annual total burden hours associated with this collection.

—USM-600 Physical Requirements of USMS District Security Officers

There are an estimated 267 annual total burden hours associated with this collection.

—CSO-012 Request to Reevaluate Court Security Officer's Medical Qualification

There are an estimated 150 annual total burden hours associated with this collection.

—CSO-229 Certificate of Medical Examination for Court Security Officers

There are an estimated 2,150 annual total burden hours associated with this collection.

Total Annual Time Burden (Hours): 3,269.

If additional information is required contact: Jerri Murray, Department Clearance Officer, Policy and Planning Staff, Justice Management Division, Department of Justice, Two Constitution Square, 145 N Street NE., Room 1407B, Washington, DC 20530.

Dated: April 9, 2013.
Jerri Murray,
Department Clearance Officer for PRA, U.S. Department of Justice.

[FR Doc. 2013-08689 Filed 4-12-13; 8:45 am]

BILLING CODE 4410-04-P